DEPARTMENT OF COMMERCE

Foreign-Trade Zones Board

Scope Clarification Request—Foreign-Trade Subzone 57B, (Construction Equipment), Volvo Construction Equipment North America, Inc.—Skyland, North Carolina

A request for clarification of scope has been submitted to the Foreign-Trade Zones Board (the Board) by Volvo Construction Equipment North America, Inc. (Volvo CENA), operator of Foreign-Trade Subzone 57B. A grant of authority for Volvo CENA's subzone was issued on May 15, 2001 (Board Order 1164), for the manufacture of construction equipment, specifically, wheel loaders and articulated haulers (66 FR 28890, 5/25/01). The scope of manufacturing authority was expanded on August 21, 2003 (Board Order 1284), to include skid-steer loaders and compaction rollers (68 FR 52383, 9/3/03).

Volvo CENA now seeks clarification as to whether its scope includes authority to fabricate and assemble construction equipment cabs (HTS 8431.49 and HTS 8708.29), rather than import the finished cabs from the parent company (Volvo CE) in Sweden. Volvo CENA's request indicates that the foreign-sourced materials under the proposed expanded scope fall into categories similar to those already included in the company's existing scope of authority. Duty rates on the imported components to be used for cab production range from duty-free to 9.9 percent.

Public comment is invited from interested parties. Submissions shall be addressed to the Board's Executive Secretary at the address listed below. The closing period for their receipt is May 7, 2007. A copy of the request is available for public inspection at the Office of the Executive Secretary, Foreign-Trade Zones Board, U. S. Department of Commerce, Room 2814B, 1401 Constitution Ave. NW, Washington, DC 20230.

For further information, contact Christopher Kemp at christopher_kemp@ita.doc.gov or (202) 482-0862.

Dated: March 28, 2007.
Andrew McGilvray,
Executive Secretary.

[FR Doc. E7-6507 Filed 4-5-07; 8:45 am]

BILLING CODE 3510-DS-S